DEPARTMENT OF EDUCATION

34 CFR Part 361

State Vocational Rehabilitation Services Program

CFR Correction

In Title 34 of the Code of Federal Regulations, Parts 300 to 399, revised as of July 1, 2009, on page 267, in § 361.42, in paragraph (a)(4) introductory text, in the first sentence, after the words “Any eligible”, add the words “individual, including an individual whose eligibility for vocational”.

[FR Doc. 2010-14049 Filed 6-9-10; 8:45 am]

BILLING CODE 1505-01-D